TENNESSEE VALLEY AUTHORITY

18 CFR Part 1301

Revision of Tennessee Valley Authority Freedom of Information Act Regulations

AGENCY: Tennessee Valley Authority (TVA).

ACTION: Final rule.

SUMMARY: The Tennessee Valley Authority is amending its Freedom of Information Act (FOIA) regulations to reflect an organizational reassignment of the FOIA function within TVA. It also provides a new address for filing FOIA requests and FOIA appeals.

EFFECTIVE DATE: March 29, 2000.

FOR FURTHER INFORMATION CONTACT: Denise Smith, FOIA Officer, Tennessee Valley Authority, 400 W. Summit Hill Drive (ET 5D), Knoxville, Tennessee 37902-1499, telephone number (865) 632-6945.

SUPPLEMENTARY INFORMATION: This rule was not published in proposed form since it relates to internal agency organization and administration. Since this rule is nonsubstantive, it is being made effective on March 29, 2000.

List of Subjects in 18 CFR Part 1301

Freedom of information, Government in the Sunshine, Privacy.

For the reasons stated in the preamble, TVA amends 18 CFR Part 1301 as follows:

PART 1301—PROCEDURES

1. The authority citation for part 1301, subpart A, continues to read as follows:

Authority: 16 U.S.C. 831-831dd, 5 U.S.C. 552.

2. In § 1301.3, revise the first sentence of paragraph (a) to read as follows:

§ 1301.3 Requirements for making requests.

(a) How made and addressed. You may make a request for records of TVA by writing to the Tennessee Valley Authority, FOIA Officer, 400 W. Summit Hill Drive (ET 5D), Knoxville, Tennessee 37902-1499. * * *

* * * * *

3. In § 1301.9, revise the first sentence of paragraph (a) to read as follows:

§ 1301.9 Appeals.

(a) Appeals of adverse determinations. If you are dissatisfied with TVA's response to your request, you may appeal an adverse determination denying your request, in any respect, to TVA's FOIA Appeal Official, the General Manager, CAO Business Services, Tennessee Valley Authority, 400 Summit Hill Drive (ET 5D), Knoxville, Tennessee 37902-1499. * * *

* * * * *

Cleo W. Norman,
General Manager, CAO Business Services.

[FR Doc. 00-7519 Filed 3-28-00; 8:45 am]

BILLING CODE 8120-08-P